DEPARTMENT OF THE INTERIOR

Fish and Wildlife Service

Notice of Issuance of 31 Permits for Incidental Take of Threatened and Endangered Species

SUMMARY: Between April 1, 2000 and September 30, 2000, Region 2 of the Fish and Wildlife Service issued 31 permits for the incidental take of threatened and endangered species, pursuant to section 10(a)(1)(B) of the Endangered Species Act of 1973 (Act), as amended. Of the 31 permits issued, one is a Safe Harbor Agreement in Arizona, and the other 30 are issued to Permittees in the greater Austin, Texas area; two are related to the Balcones Canyonlands Preserve, golden-cheeked warbler (GCW) and karst invertebrates, and 28 are for the Houston toad (HT). Copies of the 31 permits and associated decision documents are available upon request. In addition, between April 1, 2000 and September 30, 2000, two permits had minor administrative amendments.

ADDRESSES: If you would like copies of any of the above documents, please contact the U.S. Fish and Wildlife Service, Ecological Services, P.O. Box 1306, Albuquerque, New Mexico.

FOR FURTHER INFORMATION CONTACT: Leslie Dierauf, Regional Habitat Conservation Plan Coordinator, at the above address, 505-248-6651. Further details of these permits may also be viewed on the Internet at http://ecos.fws.gov.

SUPPLEMENTARY INFORMATION: Section 9 of the Act and Federal Regulation prohibits the “take” of wildlife species listed as threatened or endangered species. Under the Act, the term “take” means to harass, harm, pursue, hunt, shoot, wound, kill, trap, capture, or collect listed wildlife, or to attempt to engage in any such conduct. The Service may, under limited circumstances, issue permits to authorize incidental take, i.e. that is incidental to, and not the purpose of, the carrying out of an otherwise lawful activity. Regulations governing permits for endangered species are at 50 CFR 17.22.

31 Incidental Take Permits Issued
Permittee | Permit No. | Date of issuance
Adams (TX) HT | TE-021226-0 | 04/10/00
Walters (TX) HT | TE-021659-0 | 04/27/00
Ehrler (TX) HT | TE-021561-0 | 04/27/00
Sanchez (TX) HT | TE-021792-0 | 04/27/00
White/Cornerstone (TX) HT | TE-021793-0 | 04/27/00
Hughes (TX) HT | TE-021532-0 | 05/10/00
Cook (TX) HT | TE-023593-0 | 05/19/00
Hanks/Sims (TX) HT | TE-024872-0 | 06/09/00
Tilley (TX) HT | TE-023965-0 | 06/09/00
Schuelke (TX) HT | TE-023822-0 | 06/14/00
Comanche Canyon (TX) GCW/karst | TE-004683-0 | 07/17/00
The Crossings (TX) GCW | TE-024619-0 | 07/27/00
Manferd (TX) HT | TE-025655-0 | 07/28/00
Pettit (TX) HT | TE-025656-0 | 07/28/00
White #2 (TX) HT | TE-026687-0 | 07/28/00
Berger (TX) HT | TE-027260-0 | 07/28/00
Cooper (TX) HT | TE-027163-0 | 07/28/00
Hyatt (TX) HT | TE-025653-0 | 07/28/00
Cantrell (TX) HT | TE-025654-0 | 07/28/00
Mixon (TX) HT | TE-027746-0 | 08/17/00
Bush (TX) HT | TE-029608-0 | 08/31/00
Decker (TX) HT | TE-028087-0 | 09/18/00
Russo (TX) HT | TE-029605-0 | 09/18/00
Rush (TX) HT | TE-024949-0 | 09/18/00
Miles (TX) HT | TE-029947-0 | 09/18/00
Broussard (TX) HT | TE-029946-0 | 09/18/00
Arizona Dept of Trans (AZ) SHA | TE-026887-0 | 09/28/00
Luth/Lake of the Woods (TX) HT | TE-026887-0 | 09/28/00
46—Subdivisions LOW (TX) HT | TE-025965-0 | ¹ 08/28/00
46—Subdivisions MEDIUM (TX) HT | TE-025997-0 | ¹ 08/28/00
Ludwig | TE-025997-0-1 | 09/15/00
MacLeod | TE-025997-0-9 | 09/15/00
¹ Approved.

Two Administrative Amendment
Permittee | Permit No. | Date of amendment
Lopez/Johnson | TE-024873-0 | 07/17/00
Baldwin Ranch | TE-003593-0 | 08/21/00

Nancy M. Kaufman,
Regional Director, Region 2, Albuquerque, New Mexico.

[FR Doc. 00-28085 Filed 11-1-00; 8:45 am]

BILLING CODE 4510-55-P